DEPARTMENT OF COMMERCE

National Oceanic and Atmospheric Administration

RIN 0648-XD498

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's Spiny Dogfish Advisory Panel will meet to develop comments relative to the 2015 spiny dogfish fishing year. Comments will be reviewed by the Spiny Dogfish Monitoring Committee and the Council in their consideration of alternative management measures for the 2015 fishing year.

DATES: The meeting will be held on Tuesday, September 29, 2014, from 9 a.m. to 12 noon.

ADDRESSES: The meeting will be held via webinar with a listening station also available at the Council address below. Webinar link: http://mafmc.adobeconnect.com/dogfish/.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Spiny dogfish management measures for the 2015 fishing year were established via rulemaking effective August 8, 2014. Currently specified management measures for spiny dogfish are available via the Council's Web site (www.mafmc.org).

Special Accommodations

The meeting is physically accessible to people with disabilities. Requests for sign language interpretation or other auxiliary aids should be directed to M. Jan Saunders at the Mid-Atlantic Council Office, (302) 526-5251, at least 5 days prior to the meeting date.

Dated: September 8, 2014.
Tracey L. Thompson,
Acting Deputy Director, Office of Sustainable Fisheries, National Marine Fisheries Service.

[FR Doc. 2014-21691 Filed 9-10-14; 8:45 am]

BILLING CODE 3510-22-P